DEPARTMENT OF THE TREASURY

Office of Foreign Assets Control

Sanctions Actions Pursuant to Executive Orders 13382

AGENCY: Office of Foreign Assets Control, Treasury.

ACTION: Notice.

SUMMARY: The U.S. Department of the Treasury's Office of Foreign Assets Control (OFAC) is publishing the names of nine individuals and eight entities whose property and interests in property are blocked pursuant to Executive Order (E.O.) 13382.

DATES: OFAC's actions described in this notice were effective on February 3, 2017, as further specified below.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The Specially Designated Nationals and Blocked Persons List and additional information concerning OFAC sanctions programs are available on OFAC's Web site (www.treas.gov/ofac).

Notice of OFAC Actions

On February 3, 2017, OFAC blocked the property and interests in property of the following nine persons pursuant to E.O. 13382, “Blocking Property of Weapons of Mass Destruction Proliferators and Their Supporters”:

Individuals

1. ASGHARZADEH, Abdollah; DOB 16 Sep 1968; Additional Sanctions Information—Subject to Secondary Sanctions (individual) [NPWMD] [IFSR].

2. DARIAN, Tenny (a.k.a. SHAKHDARIAN, Tenny); DOB 06 Sep 1979; POB Tehran, Iran; citizen Iran; Additional Sanctions Information—Subject to Secondary Sanctions; Passport B23545963 expires 05 Mar 2017 (individual) [NPWMD] [IFSR].

3. XIANHUA, Qin (a.k.a. QIN, Jack; a.k.a. XIANHUA, Jack); DOB 08 Jan 1979; citizen China; Additional Sanctions Information—Subject to Secondary Sanctions; Passport E31457650 expires 21 Oct 2023 (individual) [NPWMD] [IFSR].

4. YUE, Richard (a.k.a. YAODONG, Yue); DOB 22 May 1974; Additional Sanctions Information—Subject to Secondary Sanctions (individual) [NPWMD] [IFSR].

5. ZHOU, Carol; DOB 30 Oct 1982; Additional Sanctions Information—Subject to Secondary Sanctions (individual) [NPWMD] [IFSR].

6. MAGHAM, Mohammad; DOB 16 Sep 1970; nationality Iran; Additional Sanctions Information—Subject to Secondary Sanctions; Passport H22452336 (Iran) (individual) [NPWMD] [IFSR].

7. ZAHEDI, Mostafa (a.k.a. KHAZE, Karim; a.k.a. LIU, Jhon; a.k.a. OMAR, Asem; a.k.a. “IBRAHIM, Mohammad”; a.k.a. “IBRAHIM, Mohammed”); DOB 29 Jun 1978; Additional Sanctions Information—Subject to Secondary Sanctions (individual) [NPWMD] [IFSR].

8. ZARGARI, Ghodrat (a.k.a. ZARGARI, Ghodratollah); DOB 1944; Additional Sanctions Information—Subject to Secondary Sanctions (individual) [NPWMD] [IFSR].

9. ROSTAMIAN, Kambiz, Villa No. 13, Cluster 31 Juemierah Islands, Dubai, United Arab Emirates; DOB 27 Aug 1960; Additional Sanctions Information—Subject to Secondary Sanctions; Passport RE0003026 (Saint Kitts and Nevis); alt. Passport I17217816 (Iran) (individual) [NPWMD] [IFSR].

On February 3, 2017, OFAC blocked the property and interests in property of the following eight entities pursuant to E.O. 13382, “Blocking Property of Weapons of Mass Destruction Proliferators and Their Supporters”:

Entities

1. COSAILING BUSINESS TRADING COMPANY LIMITED, 2808 Number 1 Building, 98 Nanjing Road, Shinan District, Qingdao, China; Additional Sanctions Information—Subject to Secondary Sanctions [NPWMD] [IFSR].

2. EAST STAR COMPANY (a.k.a. SATEREH SHARGH MOBIN CO.; a.k.a. SATEREH SHARGH SAMIN CO., LTD.; a.k.a. SETAREH SHARGH CO.), Unit 5, Third Floor, 15th Street, Bokharest Avenue, Tehran, Iran; Additional Sanctions Information—Subject to Secondary Sanctions [NPWMD] [IFSR].

3. NINGBO NEW CENTURY IMPORT AND EXPORT COMPANY, LTD. (a.k.a. NEW CENTURY IMPORT AND EXPORT CO. LTD), 5 Hongtang South Road, Jiangbei, Ningbo 315033, China; Additional Sanctions Information—Subject to Secondary Sanctions [NPWMD] [IFSR].

4. OFOG SABZE DARYA COMPANY, Unit Seven, Fourth Floor, Number 18, 15th Street, Khaled Eslamboli Street, Beheshti Avenue, Tehran, Iran; Additional Sanctions Information—Subject to Secondary Sanctions [NPWMD] [IFSR].

5. ERVIN DANESH ARYAN COMPANY (a.k.a. ERVIN DANESH), 5th Floor, No. 78, Forsat Shirazi Street, North Kargar Street, Tehran, Iran; Additional Sanctions Information—Subject to Secondary Sanctions [NPWMD] [IFSR].

6. ZIST TAJHIZ POOYESH COMPANY (a.k.a. POOYESH ENVIRONMENTAL INSTRUMENTS; a.k.a. ZIEST TAJHIEZ POOYESH), 16, Afshar Alley, Fajr Street, Motahari Avenue, Tehran, Iran; Web site www.pooyeshenviro.ir; Additional Sanctions Information—Subject to Secondary Sanctions [NPWMD] [IFSR].

7. MKS INTERNATIONAL CO. LTD. (a.k.a. MKS INTERNATIONAL; a.k.a. MKS INTERNATIONAL GROUP), Office No. 4, Babataher Street, Dr Fatemi Avenue, Tehran, Iran; P.O. BOX 14155-4618, Tehran, Iran; Additional Sanctions Information—Subject to Secondary Sanctions [NPWMD] [IFSR].

8. ROYAL PEARL GENERAL T.R.D. (a.k.a. ROYAL PEARL CHEMICAL; a.k.a. ROYAL PEARLS; a.k.a. ROYAL PEARLS GENERAL TRADING), P.O. Box 74382, Dubai, United Arab Emirates; Office No. 8, Near Regal International, Sheikh Zayed Road, Dubai 74382, United Arab Emirates; Web site www.royalpearlchem.com; Additional Sanctions Information—Subject to Secondary Sanctions [NPWMD] [IFSR].

Dated: February 3, 2017.
Andrea M. Gacki,
Acting Director, Office of Foreign Assets Control.

[FR Doc. 2017-02568 Filed 2-7-17; 8:45 am]

BILLING CODE 4810-AL-P